DEPARTMENT OF COMMERCE

International Trade Administration

[A-570-954]

Certain Magnesia Carbon Bricks From the People's Republic of China: Preliminary Results of Antidumping Duty Administrative Review; 2020-2021

AGENCY: Enforcement and Compliance, International Trade Administration, Department of Commerce.

SUMMARY: The U.S. Department of Commerce (Commerce) preliminarily determines that the 30 companies subject to this administrative review of the antidumping duty (AD) order on certain magnesia carbon bricks (bricks) from the People's Republic of China (China) are part of the China-wide entity because none filed a separate rate application (SRA) or a separate rate certification (SRC). The period of review (POR) is September 1, 2020, through August 31, 2021. We invite interested parties to comment on these preliminary results.

DATES: Applicable June 9, 2022.

FOR FURTHER INFORMATION CONTACT: Nathan James, AD/CVD Operations, Office V, Enforcement and Compliance, International Trade Administration, U.S. Department of Commerce, 1401 Constitution Avenue NW, Washington, DC 20230; telephone: (202) 482-4313.

SUPPLEMENTARY INFORMATION:

Background

On September 2, 2021, Commerce published in the Federal Register a notice of opportunity to request an administrative review of the AD order on bricks from China ¹ for the POR.² On November 5, 2021, in response to a timely request from the Magnesia Carbon Bricks Fair Trade Committee (the petitioner),³ we initiated an administrative review of the Order with respect to 30 companies.⁴

¹ See Certain Magnesia Carbon Bricks from Mexico and the People's Republic of China: Antidumping Duty Orders, 75 FR 57257 (September 20, 2010) (Order).

² See Antidumping or Countervailing Duty Order, Finding, or Suspended Investigation; Opportunity to Request Administrative Review, 86 FR 49311 (September 2, 2021).

³ See Petitioner's Letter, “Request for Administrative Review,” dated September 29, 2021.

⁴ See Initiation of Antidumping and Countervailing Duty Administrative Reviews, 86 FR 61121 (November 5, 2021) (Initiation Notice); see also the appendix to this notice.

On November 15, 2021, we placed on the record U.S. Customs and Border Protection (CBP) entry data under administrative protective order (APO) for all interested parties having APO access.⁵ The deadline for interested parties to submit a no-shipment certification, SRA, or SRC was December 6, 2021.⁶ No party submitted a no-shipment certification, SRA, or SRC.

⁵ See Memorandum, “U.S. Customs and Border Protection Data Query,” dated November 15, 2021.

⁶ See Initiation Notice, 86 FR at 61121 (“If a producer or exporter named in this notice of initiation had no exports, sales, or entries during the period of review (POR), it must notify Commerce within 30 days of publication of this notice in the Federal Register. . . . Separate Rate Applications are due to Commerce no later than 30 calendar days after publication of this Federal Register notice.”). Thirty calendar days after the Initiation Notice published was Sunday December 5, 2021. Commerce's practice dictates that, where a deadline falls on a weekend or federal holiday, the appropriate deadline is the next business day. See Notice of Clarification: Application of “Next Business Day” Rule for Administrative Determination Deadlines Pursuant to the Tariff Act of 1930, As Amended, 70 FR 24533 (May 10, 2005).

Scope of the Order

The scope of the Order includes certain chemically bonded (resin or pitch), magnesia carbon bricks with a magnesia component of at least 70 percent magnesia (MgO) by weight, regardless of the source of raw materials for the MgO, with carbon levels ranging from trace amounts to 30 percent by weight, regardless of enhancements (for example, magnesia carbon bricks can be enhanced with coating, grinding, tar impregnation or coking, high temperature heat treatments, anti-slip treatments or metal casing) and regardless of whether or not antioxidants are present (for example, antioxidants can be added to the mix from trace amounts to 15 percent by weight as various metals, metal alloys, and metal carbides).

Certain magnesia carbon bricks that are subject to the Order are currently classifiable under subheadings 6902.10.1000, 6902.10.5000, 6815.91.0000, 6815.99.2000 and 6815.99.4000 of the Harmonized Tariff Schedule of the United States (HTSUS). While HTSUS subheadings are provided for convenience and customs purposes, the written description is dispositive.

Methodology

Commerce is conducting this administrative review in accordance with section 751(a)(1)(B) of the Tariff Act of 1930, as amended (the Act), and 19 CFR 351.213.

Preliminary Results of Review

The 30 companies subject to this review did not file no-shipment certifications, SRAs, or SRCs. Thus, Commerce preliminarily determines that these companies have not demonstrated their eligibility for separate rate status. As such, Commerce also preliminarily determines that the companies subject to review are part of the China-wide entity.

In addition, Commerce no longer considers the non-market economy (NME) entity as an exporter conditionally subject to an AD administrative review.⁷ Accordingly, the NME entity will not be under review unless Commerce specifically receives a request for, or self-initiates, a review of the NME entity. In this administrative review, no party requested a review of the China-wide entity and we have not self-initiated a review of the China-wide entity. Because no review of the China-wide entity is being conducted, the China-wide entity's entries are not subject to the review, and the rate applicable to the NME entity is not subject to change as a result of this review. The China-wide entity rate is 236.00 percent.⁸

⁷ See Antidumping Proceedings: Announcement of Change in Department Practice for Respondent Selection in Antidumping Duty Proceedings and Conditional Review of the Non-Market Economy Entity in NME Antidumping Duty Proceedings, 78 FR 65963, 65970 (November 4, 2013).

⁸ See Certain Magnesia Carbon Bricks from Mexico and the People's Republic of China: Antidumping Duty Orders, 75 FR 57257 (September 20, 2010).

Public Comment

Interested parties are invited to comment on the preliminary results and may submit case briefs and/or written comments, filed electronically via Enforcement and Compliance's Antidumping Duty and Countervailing Duty Centralized Electronic Service System (ACCESS), within 30 days after the date of publication of these preliminary results of review.⁹ ACCESS is available to registered users at https://access.trade.gov. Rebuttal briefs, limited to issues raised in the case briefs, must be filed within seven days after the time limit for filing case briefs.¹⁰ Parties who submit case or rebuttal briefs in this proceeding are requested to submit with each argument a statement of the issue, a brief summary of the argument, and a table of authorities.¹¹ Note that Commerce has temporarily modified certain portions of its requirements for serving documents containing business proprietary information, until further notice.¹²

⁹ See 19 CFR 351.309(c)(1)(ii).

¹⁰ See 19 CFR 351.309(d)(1) and (2); see also Temporary Rule Modifying AD/CVD Service Requirements Due to COVID-19; Extension of Effective Period, 85 FR 41363 (July 10, 2020) (Temporary Rule).

¹¹ See 19 CFR 351.309(c) and (d); see also 19 CFR 351.303 (for general filing requirements).

¹² See Temporary Rule.

Interested parties who wish to request a hearing, or to participate if one is requested, must submit a written request to the Assistant Secretary for Enforcement and Compliance within 30 days of the date of publication of this notice.¹³ Requests should contain: (1) the party's name, address, and telephone number; (2) the number of participants; and (3) a list of issues to be discussed. Issues raised in the hearing will be limited to those raised in the respective case and rebuttal briefs. If a request for a hearing is made, parties will be notified of the time and date for the hearing to be held.¹⁴ Commerce intends to issue the final results of this administrative review, which will include the results of our analysis of all issues raised in the case briefs, within 120 days of publication of these preliminary results in the Federal Register, unless extended, pursuant to section 751(a)(3)(A) of the Act.

¹³ See 19 CFR 351.310(c).

¹⁴ See 19 CFR 310(d).

Assessment Rates

Upon issuance of the final results of this review, Commerce will determine, and CBP will assess, ADs on all appropriate entries covered by this review.¹⁵ We intend to instruct CBP to liquidate entries containing subject merchandise exported by the companies under review that we determine in the final results to be part of the China-wide entity at the China-wide entity rate of 236.00 percent.¹⁶

¹⁵ See 19 CFR 351.212(b)(1).

¹⁶ For a full discussion of this practice, see Non-Market Economy Antidumping Proceedings: Assessment of Antidumping Duties, 76 FR 65694 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of review, as provided for by section 751(a)(2)(C) of the Act: (1) for previously investigated or reviewed Chinese and non-Chinese exporters who are not under review in this segment of the proceeding but who have separate rates, the cash deposit rate will continue to be the exporter-specific rate published for the most recent period; (2) for all Chinese exporters of subject merchandise that have not been found to be entitled to a separate rate, the cash deposit rate will be the China-wide rate of 236.00 percent; and (3) for all non-Chinese exporters of subject merchandise which have not received their own rate, the cash deposit rate will be the rate applicable to Chinese exporter(s) that supplied that non-Chinese exporter. These deposit requirements, when imposed, shall remain in effect until further notice.

Notification to Importers

This notice also serves as a preliminary reminder to importers of their responsibility under 19 CFR 351.402(f)(2) to file a certificate regarding the reimbursement of ADs prior to liquidation of the relevant entries during this review period. Failure to comply with this requirement could result in Commerce's presumption that reimbursement of ADs occurred and the subsequent assessment of double ADs.

Notification to Interested Parties

We are issuing and publishing these preliminary results in accordance with sections 751(a)(1) and 777(i)(1) of the Act, and 19 CFR 351.213(h) and 19 CFR 351.221(b)(4).

Dated: June 2, 2022.
Lisa W. Wang,
Assistant Secretary for Enforcement and Compliance.

Appendix

1. Autong Industry Co., Ltd.

2. Dandong Xinxing Carbon Co., Ltd.

3. Fedmet Resources Corporation

4. Fengchi Imp. and Exp. Co., Ltd.

5. Fengchi Imp. and Exp. Co., Ltd. of Haicheng City

6. Fengchi Mining Co., Ltd. of Haicheng City

7. Fengchi Refractories Co., of Haicheng City

8. FRC Global Inc.

9. Haicheng Donghe Taidi Refractory Co., Ltd.

10. Henan Xintuo Refractory Co., Ltd.

11. Liaoning Fucheng Refractories

12. Liaoning Zhongmei High Temperature Material Co., Ltd.

13. Liaoning Zhongmei Holding Co., Ltd.

14. PRCO America Inc.

15. Puyang Refractories Co., Ltd.

16. Puyang Refractories Group Co., Ltd.

17. Qingdao Wonjin Special Refractory Material Co., Ltd.

18. RHI Refractories Liaoning Co., Ltd.

19. Shenglong Refractories Co., Ltd.

20. SL Refractories LLC

21. Tangshan Strong Refractories Co., Ltd.

22. The Economic Trading Group Of Haicheng Houying Corp. Ltd.

23. Wonjin Refractory Co., Ltd.

24. Yingkou Heping Samwha Minerals, Co., Ltd.

25. Yingkou Heping Sanhua Materials Co., Ltd.

26. Yingkou Hongyu Wonjin Refractory Material Co., Ltd.

27. Yingkou Mei'ao Mining Product Co., Ltd.

28. Zibo Fubang Wonjin Refractory Technology Co., Ltd.

29. Zibo Hengsen Refractory Co., Ltd.

30. Zibo Hitech Material Co., Ltd.

[FR Doc. 2022-12429 Filed 6-8-22; 8:45 am]

BILLING CODE 3510-DS-P